DEPARTMENT OF COMMERCE

National Telecommunications and Information Administration

First Responder Network Authority; Public Combined Board and Board Committees Meeting

AGENCY: First Responder Network Authority (FirstNet Authority), National Telecommunications and Information Administration (NTIA), U.S. Department of Commerce.

ACTION: Announcement of meeting.

SUMMARY: The FirstNet Authority Board will convene an open public meeting of the Board and Board Committees.

DATES: June 2, 2025; 9:30 a.m. to 10:30 a.m. Pacific Daylight Time (PDT); Bellevue, Washington.

ADDRESSES: The meeting will be held at the Hyatt Regency—Bellevue at 900 Bellevue Way NE, Bellevue, Washington 98004-4272. Members of the public are not able to attend in person but may listen to the meeting and view the presentation by joining from the Microsoft Teams meeting link: https://teams.microsoft.com/l/meetup-join/19%3ameeting_NDM4MDA0MTItNWUyOS00NTQyLTk3MTAtZjUyMGRmZjBiZDVi%40thread.v2/0?context=%7b%22Tid%22%3a%221db2827d-3655-460f-9157-5f2e4f5219d9%22%2c%22Oid%22%3a%22b5fc9bbe-689b-4d3e-8fd6-82c8c77497e1%22%7d.

Meeting ID: 292 732 779 749 7.

Passcode: 9rE3ip7F.

If you experience technical difficulty, contact the FirstNet Authority Customer Support Service Desk at CCSD@FirstNet.gov. Teams link and information can also be found on the FirstNet Authority website (FirstNet.gov).

FOR FURTHER INFORMATION CONTACT:

General information: Jennifer Watts, (571) 665-6178, Jennifer.Watts@FirstNet.gov.

Media inquiries: Ryan Oremland, (571) 665-6186, Ryan.Oremland@FirstNet.gov.

SUPPLEMENTARY INFORMATION:

Background: The Middle Class Tax Relief and Job Creation Act of 2012 (codified at 47 U.S.C. 1401 et seq.) (Act) established the FirstNet Authority as an independent authority within NTIA. The Act directs the FirstNet Authority to ensure the building, deployment, and operation of a nationwide interoperable public safety broadband network. The FirstNet Authority Board is responsible for making strategic decisions regarding the operations of the FirstNet Authority.

Matters To Be Considered: The FirstNet Authority will post a detailed agenda for the Combined Board and Board Committees Meeting on FirstNet.gov prior to the meeting. The agenda topics are subject to change. Please note that the subjects discussed by the Board and Board Committees may involve commercial or financial information that is privileged or confidential, or other legal matters affecting the FirstNet Authority. As such, the Board may, by majority vote, close the meeting only for the time necessary to preserve the confidentiality of such information, pursuant to 47 U.S.C. 1424(e)(2).

Other Information: The public Combined Board and Board Committees Meeting is accessible to people with disabilities. Individuals requiring accommodations, such as sign language interpretation or other ancillary aids, are asked to notify Jennifer Watts at (571) 665-6178 or email: Jennifer.Watts@FirstNet.gov before the meeting.

Records: The FirstNet Authority maintains records of all Board proceedings. Minutes of the Combined Board and Board Committees Meeting will be available on FirstNet.gov.

Dated: May 15, 2025.
Jennifer Watts,
Board Secretary, First Responder Network Authority.

[FR Doc. 2025-08976 Filed 5-19-25; 8:45 am]

BILLING CODE P